ENVIRONMENTAL PROTECTION AGENCY

40 CFR Part 70

[Petition IV-2003-7; FRL-7795-1]

Clean Air Act Operating Permit Program; Petition for Objection to State Operating Permit for Cargill, Inc.—Soybean Oil Mill; Gainesville (Hall County), GA

AGENCY: Environmental Protection Agency (EPA).

ACTION: Notice of final order on petition to object to a state operating permit.

SUMMARY: Pursuant to Clean Air Act section 505(b)(2) and 40 CFR 70.8(d), the EPA Administrator signed an order, dated July 16, 2004, partially granting and partially denying a petition to object to a state operating permit issued by the Georgia Environmental Protection Division (EPD) to Cargill, Inc.—Soybean Oil Mill (Cargill) located in Gainesville, Hall County, Georgia. Pursuant to section 505(b)(2) of the Clean Air Act (the Act), judicial review of any denial of the petition may be sought in the United States Court of Appeals for the appropriate circuit within 60 days of this notice under section 307 of the Act. No objection shall be subject to judicial review until final action is taken to issue or deny a permit under section 505(c).

ADDRESSES: Copies of the final order, the petition, and all pertinent information relating thereto are on file at the following location: EPA Region 4, Air, Pesticides and Toxics Management Division, 61 Forsyth Street, SW., Atlanta, Georgia 30303-8960. The final order is also available electronically at the following address: http://www.epa.gov/region7/programs/artd/air/title5/petitiondb/petitions/cargillamendment_decision2003.pdf.

FOR FURTHER INFORMATION CONTACT: Art Hofmeister, Air Permits Section, EPA Region 4, at (404) 562-9115 or hofmeister.art@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

GCLPI submitted a petition on behalf of the Sierra Club to the Administrator on October 7, 2003, requesting that EPA object to a state title V operating permit issued by EPD to Cargill. The Petitioner maintains that the Cargill permit is inconsistent with the Act due to: (1) The inadequacy of EPD's reasonably available control technology determinations for various emission units; (2) the inadequacy of various monitoring and reporting requirements; (3) the inadequacy of the statement of basis; and (4) the permit's inability to assure compliance.

On July 16, 2004, the Administrator issued an order partially granting and partially denying this petition. The order explains the reasons behind EPA's conclusion that the Petitioner adequately demonstrated that the Cargill permit is not in full compliance with the requirements of the Act on the grounds raised.

Dated: July 22, 2004.
J.I. Palmer,
Regional Administrator, Region IV.

[FR Doc. 04-17373 Filed 7-29-04; 8:45 am]

BILLING CODE 6560-50-P